NATIONAL AERONAUTICS AND SPACE ADMINISTRATION

[Notice 02-122]

NASA Advisory Council, Advanced Space Transportation Subcommittee; Meeting

AGENCY: National Aeronautics and Space Administration (NASA).

ACTION: Notice of Meeting.

SUMMARY: In accordance with the Federal Advisory Committee Act, Public Law 92-463, as amended, the National Aeronautics and Space Administration announces a forthcoming meeting of the NASA Advisory Council, Aerospace Technology Advisory Committee (ATAC), Advanced Space Transportation Subcommittee (ASTS).

DATES: Monday, November 18, 2002, 12:30 p.m. to 4:45 p.m.; and Tuesday, November 19, 2002, 9 a.m. to 1:45 p.m.

ADDRESSES: National Aeronautics and Space Administration, Room 7H46, 300 E Street, SW., Washington, DC 20546.

FOR FURTHER INFORMATION CONTACT: Ms. Mary-Ellen McGrath, Office of Aerospace Technology, National Aeronautics and Space Administration, Washington, DC 20546-0001, 202/358-4729.

SUPPLEMENTARY INFORMATION: The meeting will be open to the public up to the seating capacity of the room. The agenda for the meeting is as follows:

—Overview of Space Launch Initiative (SLI) Since Last Meeting

—Integrated Space Transportation Plan (ISTP) Update

—How SLI is Using Lessons Learned

—Review of SLI Partnerships and their Structure

—SLI Development Technology Readiness Level Progression

—Composite vs. Metallic Fuel Tanks

—3rd Generation Space Transportation Update

—Panel Member Discussion

It is imperative that the meeting be held on these dates to accommodate the scheduling priorities of the key participants. Visitors will be requested to sign a visitor's register.

June W. Edwards,
Advisory Committee Management Officer, National Aeronautics and Space Administration.

[FR Doc. 02-26028 Filed 10-10-02; 8:45 am]

BILLING CODE 7510-01-P